DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground. Modified | Communities affected
Barnes County, North Dakota, and Incorporated Areas
Docket No.: FEMA-B-7705
Sheyenne River | Approximately 3200 feet downstream from 117th Ave SE (Barnes County Highway 21) | +1214 | City of Valley City.
| Just upstream from Interstate 94 | +1219
| Approximately 3350 feet upstream from 65th Street NE | +1224
| Approximately 5600 feet upstream from Maryvale Bridge | +1228
Sheyenne River | Approximately 700 feet upstream from ND Highway 46 | +1162 | Barnes County (Unincorporated Areas).
| Just downstream from 43rd St. SE (Barnes County Highway 21) | +1198
| Just Downstream from Baldhill Dam | +1239
*National Geodetic Vertical Datum.
#Depth in feet above ground.
+North American Vertical Datum.
ADDRESSES
City of Valley City
Maps are available for inspection at City Hall, 220 3rd St. NE, Valley City, ND 58072.
Barnes County (Unincorporated Areas)
Maps are available for inspection at Barnes County Courthouse, 230 4th Street NW, Valley City, ND 58072.
City of Harrisonburg, Independent City, Virginia
Docket No: FEMA-B-7462
Blacks Run | Just upstream of Early Road | +1199 | City of Harrisonburg.
| Approximately 400 feet downstream of Acorn Drive | +1376
Blacks Run Tributary No. 1 | Approximately at the confluence with Blacks Run | +1269 | City of Harrisonburg.
| Approximately 1180 feet upstream of Terri Drive | +1453
Blacks Run Tributary No. 2 | Approximately 80 feet upstream of the confluence with Blacks Run Tributary No. 1 | +1270 | City of Harrisonburg.
| Approximately 1400 feet upstream of Peach Grove Avenue | +1377
Blacks Run Tributary No. 3 | Approximately at the confluence with Blacks Run Tributary No. 1 | +1307 | City of Harrisonburg.
| Approximately 80 feet downstream of Reservoir Street | +1418
| Approximately 150 feet upstream of Reservoir Street | +1430
Sunset Heights Branch | Approximately 650 feet upstream of Erickson Avenue | +1271 | City of Harrisonburg.
| Approximately 150 feet down stream of West Market Street | +1336
| Approximately 1100 feet upstream of West Market Street | +1364
West Fork Sunset Heights Branch | Approximately at the confluence of Sunset Heights Branch | +1309 | City of Harrisonburg.
| Approximately 900 feet upstream of Garbers Church Road | +1364
| Approximately 1100 feet upstream of Garbers Church Road | +1366
# Depth in feet above ground.
*National Geodetic Vertical Datum.
+National American Vertical Datum.
Individual points for the City of Harrisonburg were processed to obtain place specific conversion factors. These individual point factors were then averaged throughout the community to obtain an average community wide conversion factor of .443 feet. To convert between NAVD and NGVD for the City of Harrisonburg use the following formula: NAVD = NGVD−0.443.
City of Harrisonburg
Maps are available for inspection at City of Harrisonburg, Department of Community Development, 409 South Main Street, Harrisonburg, Virginia 22801.
Kanawha County, West Virginia, and Incorporated Areas
Docket No.: FEMA-B-7723
Alum Creek | Begins at approximately 298 feet downstream of CSX Railroad | +519 | Kanawha County (Unincorporated Areas).
| Ends approximately at 3649 feet upstream of Rebel Mountain Road | +709
Brier Creek | Begins at approximately 1180 feet downstream of Sproul Road | +608 | Kanawha County (Unincorporated Areas).
| Ends approximately at 2390 feet upstream of Brown Land Road | +702
Dutch Hollow | Begins at approximately 3125 feet downstream of I-64 Bridge | +590 | City of Dunbar, Kanawha County (Unincorporated Areas).
| Ends approximately at 4850 feet upstream of I-64 Bridge | +666
Finney Branch | Begins at approximately 1050 feet downstream of Charles Avenue | +590 | City of Dunbar, Kanawha County (Unincorporated Areas).
| Ends approximately at 360 feet upstream of Gravel Drive | +601
Georges Creek | Begins at approximately 2575 feet downstream of Malden Road | +597 | Kanawha County (Unincorporated Areas).
| Ends approximately at 3490 feet upstream of Georges Creek Drive | +721
Indian Creek | Begins at approximately 3775 feet downstream of State Route 114 | +611 | Kanawha County (Unincorporated Areas).
| Ends approximately at 1000 feet upstream of Boner Drive | +693
Magazine Branch | Starts at approximately 920 feet downstream of Pennsylvania Avenue | +594 | City of Charleston, Kanawha County (Unincorporated Areas).
| Ends approximately at 100 feet upstream of Pacific Street | +688
Middle Fork | Begins at approximately 480 feet downstream of Middle Fork Road | +606 | Kanawha County (Unincorporated Areas).
| Ends approximately at 135 feet upstream of Middle Fork Road | +630
Mill Creek | Begins at approximately 90 feet downstream of Rail Road Bridge | +605 | Kanawha County (Unincorporated Areas).
| Ends approximately at 4550 feet upstream of Mill Creek Road | +775
Two and Three Quarter Mile Creek | Begins at approximately 220 feet downstream of U.S. Route 60 | +589 | Kanawha County (Unincorporated Areas).
| Ends approximately at 1880 feet upstream of Cane Fork Road | +618
*National Geodetic Vertical Datum.
#Depth in feet above ground.
+North American Vertical Datum.
ADDRESSES
City of Charleston
Maps are available for inspection at 501 East Virginia Street, Charleston, WV 25301.
City of Dunbar
Maps are available for inspection at 210 12th Street, Dunbar, WV 25064.
Kanawha County (Unincorporated Areas)
Maps are available for inspection at 501 East Virginia Street, Charleston, WV 25301.

(Catalog of Federal Domestic Assistance No. 97.022, “Flood Insurance.”)

Dated: August 22, 2007.
David I. Maurstad,
Federal Insurance Administrator of the National Flood Insurance Program, Department of Homeland Security, Federal Emergency Management Agency.

[FR Doc. E7-17319 Filed 8-30-07; 8:45 am]

BILLING CODE 9110-12-P